DEPARTMENT OF VETERANS AFFAIRS

Advisory Committee on Disability Compensation, Notice of Meeting

The Department of Veterans Affairs (VA) gives notice under the Federal Advisory Committee Act, 5 U.S.C. ch. 10, that the Advisory Committee on Disability Compensation (hereinafter the Committee) will hold virtual meeting sessions via the Microsoft Teams Conference Platform on Thursday, March 28, 2024 and Friday, March 29, 2024. The meeting sessions will begin, and end as follows:

Date | Time
Thursday, March 28, 2024 | 10:00 a.m. to 1:00 p.m. Eastern Standard Time (EST).
Friday, March 29, 2024 | 10:00 a.m. to 1:30 p.m. EST.

The meeting sessions are open to the public.

The purpose of the Committee is to advise the Secretary of Veterans Affairs on the maintenance and periodic readjustment of the VA Schedule for Rating Disabilities (VASRD). The Committee is to assemble and review relevant information relating to the needs of Veterans with disabilities; provide information relating to the nature and character of disabilities from service in the Armed Forces; provide an ongoing assessment of the effectiveness of the VASRD; and provide ongoing advice on the most appropriate means of responding to the needs of Veterans relating to disability compensation in the future.

On Thursday, March 28, 2024, and Friday, March 29, 2024, the agenda will include Committee and Federal Advisory Committee Act overview presentations, updates on the VASRD, and briefings from various staffs on new and ongoing VA initiatives and priorities.

In addition, on March 29, 2024, the public comment period will be open for 30-minutes from 12:35 p.m. to 1:05 p.m. EST. The public can also submit one-page summaries of their written statements for the Committee's review. Public comments may be received no later than March 15, 2024, for inclusion in the official meeting record. Please send these comments to Jadine Piper of the Veterans Benefits Administration, Compensation Service, at 21C_ACDC.VBACO@va.gov.

Members of the public who wish to obtain a copy of the agenda should contact Jadine Piper at: 21C_ACDC.VBACO@va.gov, and provide their name, professional affiliation, email address, and phone number. The call-in number (United States, Chicago) for those who would like to attend the meeting is: 872-701-0185; phone conference ID: 767 051 122#. Members of the public may also access the meeting by pasting the following URL into a web browser: https://bit.ly/ACDCMarch2024Meeting.

Dated: March 5, 2024.
Jelessa M. Burney,
Federal Advisory Committee Management Officer.

[FR Doc. 2024-04969 Filed 3-7-24; 8:45 am]

BILLING CODE 8320-01-P